DEPARTMENT OF THE INTERIOR

Fish and Wildlife Service

[FWS-R3-ES-2009-N130; 30120-1113-0000-F6]

Endangered and Threatened Wildlife and Plants; Permit Applications

AGENCY: Fish and Wildlife Service, Interior.

ACTION: Notice of availability of permit applications; request for comments.

SUMMARY: We, the U.S. Fish and Wildlife Service, invite the public to comment on the following applications to conduct certain activities with endangered species. With some exceptions, the Endangered Species Act (Act) prohibits activities with endangered and threatened species unless a Federal permit allows such activity. The Act requires that we invite public comment before issuing these permits.

DATES: We must receive any written comments on or before July 31, 2009.

ADDRESSES: Send written comments to the Regional Director, Attn: Peter Fasbender, U.S. Fish and Wildlife Service, Ecological Services, 1 Federal Drive, Fort Snelling, MN 55111-4056; electronic mail, permitsR3ES@fws.gov.

FOR FURTHER INFORMATION CONTACT: Peter Fasbender, (612) 713-5343.

SUPPLEMENTARY INFORMATION:

Background

We invite public comment on the following permit applications for certain activities with endangered species authorized by section 10(a)(1)(A) of the Act (16 U.S.C. 1531 et seq.) and our regulations governing the taking of endangered species in the Code of Federal Regulations at 50 CFR 17. Submit your written data, comments, or request for a copy of the complete application to the address shown in ADDRESSES. When submitting comments, please refer to the appropriate permit application number.

Permit Applications

Permit Application Number: TE217351.

Applicant: U.S. Forest Service, Nelsonville, Ohio.

The applicant requests a permit to take (harass through capture and release) Indiana bats (Myotis sodalis), gray bats (Myotis grisescens), and Virginia big-eared bats (Corynorhinus townscendii virginianus) on the Wayne National Forest and Daniel Boone National Forest in Ohio and Kentucky. The applicant's proposed activities under this permit application include presence or absence surveys, radio-telemetry studies to document habitat use, hibernacula surveys, population monitoring, and collection of biological data to complete environmental analyses for forest planning.

The applicant's proposed activities are for enhancement of the survival of the species in the wild.

Permit Application Number: TE216605.

Applicant: Robert R. Kiser, Whitesburg, Kentucky.

The applicant requests to renew a permit to take (capture and release, sample collection) Indiana bats, gray bats, and Virginia big-eared bats throughout the range of the species in the following States: Alabama, Arkansas, Connecticut, Delaware, Georgia, Iowa, Illinois, Indiana, Kentucky, Massachusetts, Maryland, Michigan, Missouri, Mississippi, North Carolina, New Hampshire, New Jersey, Ohio, Oklahoma, Pennsylvania, South Carolina, Tennessee, Virginia, Vermont, Wisconsin, and West Virginia. The applicant's proposed activities under this permit would include presence or absence surveys, radio-telemetry studies to document habitat use, population monitoring, and sample collection (tissue samples and guano). In addition, this renewal application includes a request to renew an existing permit to take (capture and release) blackside dace (Phoxinus cumberlandensis) in Kentucky and Tennessee in the context of aquatic surveys.

All proposed activities are for enhancement of the survival of the species in the wild.

Public Comments

We seek public review and comments on these permit applications. Please refer to the permit number when you submit comments. Comments and materials we receive are available for public inspection, by appointment, during normal business hours at the address shown in the ADDRESSES section. Before including your address, phone number, e-mail address, or other personal identifying information in your comment, you should be aware that your entire comment—including your personal identifying information—may be made publicly available at any time. While you can ask us in your comment to withhold your personal identifying information from public review, we cannot guarantee that we will be able to do so.

National Environmental Policy Act (NEPA)

In compliance with NEPA (42 U.S.C. 4321 et seq.), we have made an initial determination that the proposed activities in these permits are categorically excluded from the requirement to prepare an environmental assessment or environmental impact statement (516 DM 6 Appendix 1, 1.4C(1)).

Dated: June 24, 2009.
Lynn M. Lewis,
Assistant Regional Director, Ecological Services, Region 3.

[FR Doc. E9-15516 Filed 6-30-09; 8:45 am]

BILLING CODE 4310-55-P